DEPARTMENT OF DEFENSE

Department of the Army, U.S. Army Corps of Engineers

Greater Mississippi River Basin Water Management Board; Engineer Regulation No. 15-2-13

AGENCY: U.S. Army Corps of Engineers, DoD.

ACTION: Notice.

SUMMARY: The U.S. Army Corps of Engineers (Corps) is revising its Engineer Regulation No. 15-2-13 dated 10 May 1989. This regulation establishes and prescribes the objectives, composition, responsibilities and authority of the Corps Greater Mississippi River Basin Water Management Board. It is applicable to all Corps offices involved with water management within the Greater Mississippi River Basin. The Board consists of the Deputy Commanding General for Civil and Emergency Operations, and Division Commanders of the Northwestern, Mississippi Valley, Great Lakes and Ohio River, and Southwestern Divisions. The Deputy Commanding General for Civil and Emergency Operations serves as permanent Board Chairperson. The Board provides oversight and guidance during significant regional drought or flood events that cross Division boundaries. The Board discusses water management issues among Corps Divisions within the Greater Mississippi River Basin.

DATES: Effective date: April 22, 2013.

ADDRESSES: U.S. Army Corps of Engineers, Attn: CECW-CE, 441 G Street NW., Washington, DC 20314-1000.

FOR FURTHER INFORMATION CONTACT: Mr. Robert Bank at 202-761-5532 or by email at Robert.Bank@usace.army.mil,

SUPPLEMENTARY INFORMATION: Previous Engineer Regulation No. 15-2-13 titled “Mississippi River Water Control Board” was published on 10 May 1989 by the U.S. Army Corps of Engineers. Since its last revision, the Corps has reorganized its command and control structure. This regulation revision reflects the current organizational structure and is aligned with water management activities during recent flood and drought events in the United States.

This is published in Federal Register as a notice to concerned people and entities, and is not a request for comments.

Dated: March 18, 2013.
Approved by:
Robert A. Bank,
Chief, Civil Works Branch Engineering & Construction, Headquarters, U.S. Army Corps of Engineers.

For the reasons stated above, the Corps is revising Engineer Regulation No. 15-2-13 dated 10 May 1989 as follows:

DEPARTMENT OF THE ARMY

ER 15-2-13

U.S. Army Corps of Engineers

CECW-CE

Washington, DC 20314-1000

Engineer Regulation No. 15-2-13

Boards, Commission and Committees

GREATER MISSISSIPPI RIVER BASIN WATER MANAGEMENT BOARD

1. Purpose. This regulation establishes and prescribes the objectives, composition, responsibilities and authority of the U.S. Army Corps of Engineers (Corps) Greater Mississippi River Basin Water Management Board.

2. Applicability. The regulation is applicable to the Board members and to all field operating activities concerned with water management within the Greater Mississippi River Basin. The Greater Mississippi River Basin drains 41% of the 48 contiguous states of the United States and the drainage basin covers approximately 1.25 million square miles, including all or part of 31 states and two Canadian provinces. Its major tributaries are the Missouri, Ohio, Arkansas-White, and the Red Rivers. The Mississippi River is located within Mississippi Valley Division; however, the majority of its drainage area and its significant tributaries are located within the Northwestern Division, Great Lakes and Ohio River Division and Southwestern Division boundaries. The Board will be activated as deemed appropriate by the Deputy Commanding General for Civil and Emergency Operations, including during significant regional drought or flood events—considered as emergency conditions.

3. Objectives. The objectives of the Board are:

a. To provide oversight and guidance during significant regional drought or flood events that cross Division boundaries, and require coordination of basin-wide water management activities.

b. To serve as a forum for discussion of water management issues among Corps Divisions within the Greater Mississippi River Basin when agreement is otherwise unobtainable.

c. Provides a forum, when necessary, for division commanders to keep the Chief of Engineers informed of any unusual problems or activities associated with water control that impact his/her responsibilities.

4. Composition. The Greater Mississippi River Basin Water Management Board is a continuing board consisting of the Deputy Commanding General for Civil and Emergency Operations, and Division Commanders of the Northwestern, Mississippi Valley, Great Lakes and Ohio River, and Southwestern Divisions. The Deputy Commanding General for Civil and Emergency Operations serves as permanent Board Chairperson.

5. Responsibilities. The Board functions under the general direction of the Commanding General, USACE, and is responsible for:

a. Oversight of procedures for maintaining and improving inter-divisional coordination of water management activities within the Greater Mississippi River Basin.

b. Oversight of the development and use of facilities (physical and computer models, automated data processing equipment, and communications and information dissemination networks) needed to coordinate water management activities for the Greater Mississippi River Basin projects.

c. Oversight of basin-wide water management activities associated with Corps projects in the Greater Mississippi River Basin and, during certain significant emergency periods, may also include other agency projects located within the Basin (e.g., Tennessee Valley Authority, Bureau of Reclamation).

d. Periodic reports and/or briefings to the Commanding General, regarding the Board's activities and plans, during periods when Board is active.

6. Committees. The Greater Mississippi River Basin Water Management Board is authorized to establish continuing or ad hoc inter-divisional operating or study committees comprised of Corps personnel to facilitate the work of the Board. A standing Technical Committee comprised of the senior water control managers from the four Divisions within the Greater Mississippi River Basin, and the HQUSACE Principal Hydrologic and Hydraulic Engineer—who serves as Technical Committee Chairperson—is established to advise and assist the Board. The Technical Committee meets whenever a need is determined by the Chairperson or identified by the Board.

7. Procedures. The procedures used by the Board to carry out its responsibilities are as follows:

a. During the emergency period when the Board is active, the Board will meet to review recent past activities and current and future project operations, and to discuss new or revised water management activities for this period as appropriate.

b. The Board will provide instructions to committees under its jurisdiction and review their recommendations for improvements in water management for the above stated purpose.

c. Deviations or changes to a current water control plan may be made at the discretion of the respective division commander, unless delegated authority has been withheld. Such deviations or changes may be discussed with the Board at the commander's request. However, any deviation or change must meet all legal and procedural requirements.

d. When major differences prevail among the Board members and cannot be resolved, the issue shall be raised on an expedient basis to the Commanding General, to allow for a decision in a timely manner.

e. When needed, convene routine meetings of the Technical Committee sufficient to: ensure inter-division coordination and situational awareness; coordinate with the HQUSACE Dam and Levee Safety Officer; and inform the Board of decisions requiring Command Authority.

f. Terms of Reference will be developed for operation of the Board and Technical Committee for approval by the Deputy Commanding General for Civil and Emergency Operations.

g. The Board and Technical Committee will collaborate with the Mississippi River Commission (MRC) and other impacted stakeholder groups to ensure effective synchronization between the missions of the Board and the MRC in the development of basin-wide management activities for projects within the Greater Mississippi River Basin System.

h. The records of all Board proceedings will be preserved and maintained pursuant to the Army recordkeeping requirements in the Army Records Information Management System regulation (ARIMS—AR25-1-400). The Board will designate an individual responsible for maintaining records of all board proceedings. The designated individual shall be copied on all electronic messages concerning Board proceedings. Records of the Board include, and the Board members shall retain, any emails or other electronic records which the Board members generate or receive concerning Board proceedings. The Board recognizes that recommendations made by the Board and the information generated therefore, are of critical importance to the Corps if litigation is brought against the Corps. Litigation holds will be issued when litigation is reasonably anticipated. When a litigation hold is issued, specific instructions will be provided on preservation of electronically stored information and paper documents.

8. Funding. Routine activities of the Greater Mississippi River Basin Water Management Board and its committees, such as travel and meeting expenses, are funded by the separate members' offices. Major expenses connected with special studies are funded through the normal budgetary process. Budget requests will be supported by appropriate justification material.

[FR Doc. 2013-06591 Filed 3-21-13; 8:45 am]

BILLING CODE 3720-58-P